DEPARTMENT OF TRANSPORTATION

Federal Aviation Administration

Associate Administrator for Commercial Space Transportation; Notice of availability and request for comment on a Draft Programmatic Environmental Impact Statement (PEIS) for Horizontal Launch and Reentry of Reentry Vehicles

AGENCY: Federal Aviation Administration (FAA), Associate Administrator for Commercial Space Transportation (AST) is the lead Federal agency for the development of this PEIS.

ACTION: Notice of Availability and Request for Comment.

SUMMARY: In accordance with National Environmental Policy Act (NEPA) regulations, the FAA is announcing the availability of and requesting comments on the Draft PEIS for Horizontal Launch and Reentry of Reentry Vehicles. Under the proposed action, the FAA would license the launch of horizontally launched vehicles and the reentry of reentry vehicles (RVs). The FAA has evaluated three horizontal launch vehicle (LV) design concepts and both powered and unpowered RV concepts. This PEIS assesses the potential programmatic environmental effects of licensing horizontal launches and reentries of RVs, as well as the licensing of launch facilities that would support horizontal launches and reentries. The information in the PEIS is not intended to address all site-specific launch issues. This PEIS will be used to tier subsequent environmental analyses for site-specific launches, reentries, or the operation of a launch or reentry site. To facilitate these site-specific environmental analyses the FAA has provided guidance throughout the PEIS in various sections and technical appendices. This PEIS is intended to update and replace the 1992 Final PEIS for Commercial Reentry Vehicles and complement the 2001 PEIS for Licensing Launches.

DATES: The public comment period for the NEPA process begins with the publication of the U.S. Environmental Protection Agency's notice in the Federal Register. To ensure that all comments can be addressed in the Final PEIS, comments must be received by the FAA no later than September 12, 2005. The FAA has developed a public participation Web site (http://ast.faa.gov/lrra/PEIS_Site.htm), where the public can submit comments electronically. Materials on the web site include a downloadable electronic version of the Draft PEIS; information about licensing and the NEPA process; frequently asked questions; and a public comment form. Public hearings may be requested by organizations or individuals that feel their concerns cannot be met through the available opportunities to comment.

FOR FURTHER INFORMATION CONTACT: Written and oral comments regarding the Draft PEIS should be submitted to, Mr. Doug Graham, FAA Environmental Specialist, FAA PEIS, c/o ICF Consulting, 9300 Lee Highway, Fairfax, VA 22031; e-mail FAA.PEIS@icfconsulting.com; phone (703) 934-3950; fax (703) 934-3951; or through an online comment form available at http://ast.faa.gov/lrra/PEIS_info_resources.htm.

Additional Information: The proposed action is for the FAA to issue licenses for the launch of horizontally launched vehicles and the reentry of RVs, as well as the licensing of facilities that would support horizontal launches and reentries. The FAA exercises licensing authority in accordance with the Commercial Space Launch Act and Commercial Space Transportation Licensing Regulations, 14 CFR Ch. III, which authorize the FAA to license the launch of an LV or the reentry of an RV when conducted within the U.S. and those operated by U.S. citizens abroad. The scope of the PEIS includes launches on orbital and suborbital trajectories from both existing government launch facilities and nonfederal launch sites in the U.S. and abroad.

The FAA identified three types of LVs, called out in this analysis as Concept 1, Concept 2, and Concept 3, which would be typical of the vehicles that would operate within the activities specified in this PEIS. Additionally, both powered and unpowered RV concepts are considered in this analysis. This PEIS may be used to tier subsequent environmental documentation that the FAA would use to make a determination about licensing the launches and reentries of the aforementioned types of LVs and RVs. Additional environmental analysis would need to be conducted for any activity that is not addressed in this Draft PEIS or in previous environmental analyses.

Launch vehicles included in Concept 1 would use jet-powered take off with subsequent rocket ignition, and conduct a powered horizontal landing. These LVs would take off from conventional runways using jet power, and then ignite rocket engines at a specified altitude. The LV would use either suborbital or orbital trajectories depending on the mission. During descent, jet engines would be restarted at a specified altitude and the vehicle would fly to a powered, horizontal landing at a designated location.

Launch vehicles included in Concept 2 would use rocket powered take off and flight, and a non-powered horizontal landing. The rocket motors would be ignited while the LV is on the runway. After takeoff, the LV would follow a steep ascent trajectory that could be suborbital or orbital. The vehicle would not use powered descent but would glide to a horizontal landing at a designated location.

Launch vehicles included in Concept 3 would be carried aloft via assist aircraft with subsequent rocket ignition, and would conduct a non-powered horizontal landing. The vehicle would be comprised of an assist aircraft, such as a carrier or tow aircraft, and an LV, which would range from 9 to 46 meters (30 to 150 feet) in length. Depending on the design configuration, the LV could be attached to the top, mated to the underside, or tethered to the assist aircraft. After taking off on a horizontal runway, the LV would be released from the assist aircraft and rocket engines on the LV would be fired. The assist aircraft would make a powered horizontal landing after releasing the LV. The LV trajectory could be either orbital or suborbital. The LV would not use powered descent but would glide to a horizontal landing at a designated location.

Reentry vehicle concepts include both unpowered and powered vehicles. Once an unpowered RV concept enters Earth's atmosphere, it would glide, deploy a parachute or parafoil, and descend to the Earth's surface. Once a powered RV concept enters Earth's atmosphere, a propulsion system would be used to control descent and direct the RV to a landing site. Both RV concepts could be oriented vertically or horizontally during reentry and subsequent landing. The design and size of the RV dictates whether descent would be powered or unpowered. Some RVs would descend using a combination of unpowered and powered methods. For example, a rocket engine would be fired to slow initial descent, then a parachute would be deployed and finally when the RV is close to Earth's surface rocket engines would be fired for a final touch down.

Three alternatives to the proposed action were considered in the Draft PEIS. The first alternative would be to issue licenses for orbital Reusable Launch Vehicles (RLVs) using unpowered reentry and landing only. The second alternative would be to issue licenses to orbital RLVs using powered reentry and landing only. The third alternative would be to issue licenses of horizontal launches of RLVs where full rocket engine ignition occurs at or above 914 meters (3,000 feet). Under the No Action Alternative, the FAA would not issue licenses for the horizontal launch of LVs and reentry of RVs, as well as the operation of launch and reentry sites for such activities.

Potential impacts of the proposed action and alternatives were analyzed in the Draft PEIS. Potential environmental impacts of successful launches include impacts to the atmosphere, airspace, biological resources, cultural resources, public health and safety, hazardous materials and hazardous waste, geology and soils, land use, noise, socioeconomics, environmental justice, section 4(f) resources, orbital debris, aesthetic and visual resources, and water resources. The impacts of the No Action Alternative would be the same as those described for the affected environment in the Draft PEIS.

Potential cumulative impacts of the proposed action are also addressed in the Draft PEIS.

Dated: July 20, 2005.
John Sloan,
Acting Manager, Space Systems Development Division.

[FR Doc. 05-14972 Filed 7-28-05; 8:45 am]

BILLING CODE 4910-13-P